DEPARTMENT OF COMMERCE

National Oceanic and Atmospheric Administration

RIN 0648-XA602

Marine Mammals; File No. 16109

AGENCY: National Marine Fisheries Service (NMFS), National Oceanic and Atmospheric Administration (NOAA), Commerce.

ACTION: Notice; receipt of application for permit amendment.

SUMMARY: Notice is hereby given that Versar (formerly GeoMarine, Inc.) (Responsible Party: Susanne Bates), Gustavus, Texas 99826, has applied for an amendment to Scientific Research Permit No. 16109-01.

DATES: Written, telefaxed, or email comments must be received on or before March 13, 2014.

ADDRESSES: The application and related documents are available for review by selecting “Records Open for Public Comment” from the Features box on the Applications and Permits for Protected Species home page, https://apps.nmfs.noaa.gov, and then selecting File No. 16109 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Kristy Beard, (301) 427-8401.

SUPPLEMENTARY INFORMATION: The subject amendment to Permit No. 16109-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 16109, issued on May 3, 2012 (77 FR 27719) and amended on July 9, 2012 (77 FR 50086), authorizes takes of 35 species of cetaceans, four species of pinnipeds, and five species of sea turtles from New Jersey to North Carolina for scientific research. The research involves harassment by vessel approach during shipboard transect surveys. Eleven of the 44 species targeted for research are listed as threatened or endangered: blue whale (Balaenoptera musculus), fin whale (B. physalus), humpback whale (Megaptera novaeangliae), North Atlantic right whale (Eubalaena glacialis), sei whale (B. borealis), sperm whale (Physeter macrocephalus), green sea turtle (Chelonia mydas), hawksbill sea turtle (Eretmochelys imbricata), loggerhead sea turtle (Caretta caretta), Kemp's ridley sea turtle (Lepidochelys kempii), and leatherback sea turtle (Dermochelys coriacea). The permit expires May 15, 2017.

The permit holder is requesting the permit be amended to include changes to the terms and conditions of the permit related to numbers of animals taken and manner of taking to include: extending the action area north and south to include all U.S. waters from Maine to Florida; adding aerial surveys to their research methods; adding takes for Blainsville beaked whale (Mesoplodon densirostris), false killer whales (Pseudorca crassidens), hawksbill, loggerhead, Kemp's ridley, and green sea turtles; increasing the number of marine mammals and sea turtles that could be harassed; and changing the frequency of vessel based surveys from once per season to twice a month, year-round to generate abundance/density estimates for sea turtles and marine mammals.

In compliance with the National Environmental Policy Act of 1969 (42 U.S.C. 4321 et seq.), an initial determination has been made that the activities proposed are consistent with the Proposed Action Alternative in the Environmental Assessment (EA) on the Effects of Issuing Two Scientific Research Permits, No. 16109 and No. 15575, for Protected Sea Turtles and Marine Mammals (NMFS 2012). Based on that analysis, NMFS determined that issuance of the permit would not significantly impact the quality of the human environment and that preparation of an environmental impact statement was not required. That determination is documented in a Finding of No Significant Impact (FONSI), signed on May 1, 2012. The EA and FONSI are available upon request.

Concurrent with the publication of this notice in the Federal Register, NMFS is forwarding copies of this application to the Marine Mammal Commission and its Committee of Scientific Advisors.

Dated: February 6, 2014.
Donna S. Wieting,
Director, Office of Protected Resources, National Marine Fisheries Service.

[FR Doc. 2014-02935 Filed 2-10-14; 8:45 am]

BILLING CODE 3510-22-P